DEPARTMENT OF HOMELAND SECURITY

Transportation Security Administration

Revision of Agency Information Collection Activity Under OMB Review: Law Enforcement/Federal Air Marshal Service Physical and Mental Health Certification

AGENCY: Transportation Security Administration, DHS.

ACTION: 30-Day notice.

SUMMARY: This notice announces that the Transportation Security Administration (TSA) has forwarded the Information Collection Request (ICR), Office of Management and Budget (OMB) control number 1652-0043, abstracted below to OMB for review and approval of a revision of the currently approved collection under the Paperwork Reduction Act (PRA). The ICR describes the nature of the information collection and its expected burden. The collection involves a Mental Health Certification form that applicants for the Federal Air Marshal positions are required to complete regarding their mental health history. It also includes the Practical Exercise Performance Requirements (PEPR) form and Treating Physician Status Report (TPSR) form to assist in the determination of applicants for Federal Air Marshal (FAM) positions or incumbent FAMs fitness for duty.

DATES: Send your comments by June 20, 2019. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to dhsdeskofficer@omb.eop.gov.

FOR FURTHER INFORMATION CONTACT: Christina A. Walsh, TSA PRA Officer, Office of Information Technology (OIT), TSA-11, Transportation Security Administration, 601 South 12th Street, Arlington, VA 20598-6011; telephone (571) 227-2062; email TSAPRA@dhs.gov.

SUPPLEMENTARY INFORMATION: TSA published a Federal Register notice, with a 60-day comment period soliciting comments, of the following collection of information on December 6, 2018, 83 FR 62878.

Comments Invited

In accordance with the Paperwork Reduction Act of 1995 (44 U.S.C. 3501 et seq.), an agency may not conduct or sponsor, and a person is not required to respond to, a collection of information unless it displays a valid OMB control number. The ICR documentation will be available at http://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Consistent with the requirements of Executive Order (E.O.) 13771, Reducing Regulation and Controlling Regulatory Costs, and E.O. 13777, Enforcing the Regulatory Reform Agenda, TSA is also requesting comments on the extent to which this request for information could be modified to reduce the burden on respondents.

Information Collection Requirement

Title: Law Enforcement/Federal Air Marshal Service Physical and Mental Health Certification.

Type of Request: Revision of a currently approved collection.

OMB Control Number: 1652-0043.

Forms(s): TSA Form 1163, TSA Form 1164, TSA Form 1133-3.

Affected Public: Law Enforcement Officers/Federal Air Marshal Service, FAM applicants and healthcare providers.

Abstract: TSA requires that applicants for FAM positions meet certain medical standards, including whether the individual has an established medical history or clinical diagnosis of psychosis, neurosis, or any other personality or mental disorder that clearly demonstrates a potential hazard to the performance of FAM duties or the safety of self or others. Information collected on TSA Form 1164, Mental Health Certification, is used to assess the eligibility and suitability of FAM applicants who have been issued a conditional offer of employment. The collection is being revised to include the following additional forms: (1) TSA Form 1163, Treating Physician Status Report (TPSR), and (2) TSA Form 1133-1, Practical Exercise Performance Requirements (PEPR), to assist in the determination and in conjunction with further evaluation requests as needed for applicants of a FAMs position or incumbent FAMs. Additionally, TSA is revising the name of the collection from “Office of Law Enforcement/Federal Air Marshal Service Mental Health Certification” to “Law Enforcement/Federal Air Marshal Service Physical and Mental Health Certification.” Finally, TSA is also revising the collection process to allow other authorized healthcare providers to certify the applicant's or incumbent FAM's medical status, when applicable.

Number of Respondents: 600.

Estimated Annual Burden Hours: An estimated 900 hours annually.

Dated: May 15, 2019.
Christina A. Walsh,
TSA Paperwork Reduction Act Officer, Office of Information Technology.

[FR Doc. 2019-10556 Filed 5-20-19; 8:45 am]

BILLING CODE 9110-05-P